DEPARTMENT OF HOMELAND SECURITY

Coast Guard

[USCG-2011-0112]

Cargo Security Risk Reduction; Public Listening Sessions

AGENCY: Coast Guard, DHS.

ACTION: Notice of meetings.

SUMMARY: The Coast Guard's Office of Port and Facility Activities (CG-544) is sponsoring information and listening sessions in St. Louis, MO and Houston, TX to discuss the progress and development of a CDC Security National Strategy to reduce risks associated with the transport, transfer, and storage of Certain Dangerous Cargo (CDC) in bulk within the U.S. Marine Transportation System. These sessions will be open to the public.

DATES: The first session will be held in St. Louis, MO on Tuesday, August 2, 2011, from 8 a.m. to 1 p.m. The second session will be held in Houston, TX on Thursday, August 18, 2011, from 8 a.m. to 1 p.m.

ADDRESSES: The St. Louis, MO session will be held at the Hilton St. Louis at the Ballpark, One South Broadway, St. Louis, MO 63102. The Houston, TX session will be held at the Hobby Airport Hilton, 8181 Airport Blvd., Houston, TX 77051.

This meeting is open to the public. Please note that the session may adjourn early if all business, concerns, and questions are addressed. Seating may be limited, but session organizers will make every effort to suitably accommodate all participants. For information on facilities or services for individuals with disabilities, or to request special assistance at either or both sessions, please contact LTJG William Gasperetti or LTJG Bradley Bergan, using the contact information listed in this notice.

Written comments will be received for a short period of time after the public meetings from interested stakeholders.

FOR FURTHER INFORMATION CONTACT: To submit questions and comments or to RSVP for the sessions, send e-mails to CDC@uscg.mil. Comments, questions and responses may be posted for public viewing on the Office of Port and Facility Activities (CG-544) Web site at http://www.uscg.mil/hq/cg5/cg544/cdc.asp or the Federal Docket Management System at http://www.Regulations.gov. For logistical issues, please contact either LTJG William Gasperetti, Domestic Ports Division (CG-5441) at 202-372-1139 or via e-mail at William.N.Gasperetti@uscg.mil or LTJG Bradley Bergan, Domestic Ports Division (CG-5441) at 202-372-1149 or via e-mail at Bradley.P.Bergan@uscg.mil.

SUPPLEMENTARY INFORMATION:

Background

In September 2009, the Coast Guard held a Cargo Security Symposium in Reston, Virginia, to inform and guide the development of a national strategy for reducing the maritime security risks present in the bulk transportation and transfer of CDCs within ports and waterways of the United States. Because CDCs have chemical properties that, if released, could result in substantial death and injury in high density population areas and significant damage to critical infrastructure and key resources (CIKR), it is important for the Coast Guard, in concert with stakeholders, to implement a holistic strategy to mitigate CDC transport, transfer, and storage security risks. These security risks can be reduced through sound risk management and shared responsibility between public and private sector stakeholders, across the Security Spectrum.¹

¹ The Security Spectrum generally consists of Awareness, Prevention/Protection, Response, and Recovery.

Following the 2009 Cargo Security Symposium, a National Cargo Security Risk Reduction Workgroup for CDCs was chartered by the Coast Guard to discuss CDC security topics that could inform the development of a CDC Security National Strategy. The results of the workgroup's discussions have led to the development of components that will comprise a working draft of the CDC Security National Strategy. The working draft will be further informed by a required CDC Security National Study, called for by section 812 of the Coast Guard Authorization Act of 2010 and input received at the public listening sessions described in this notice.

Agenda of Public Meeting

The Coast Guard is holding listening sessions to discuss the working draft of the CDC Security National Strategy and further its development. Primarily, we are soliciting stakeholder input on the goals and how best to implement those goals under a “shared responsibility” paradigm. The agenda for the two sessions will principally consist of a presentation and discussion of certain elements of the working draft of the CDC Security National Strategy and future strategy implementation considerations. Included in the CDC Security National Strategy, and to be discussed, are the following goals:

• Provide to internal and external stakeholders real-time national, regional, and local awareness of the risk of intentional attacks on the CDC Marine Transportation System.

• Consistently assess vulnerability to threats of intentional attacks on the CDC Marine Transportation System and mitigate the vulnerability to an acceptable level.

• Dynamically assess the potential consequences of intentional attacks on the CDC Marine Transportation System and capably mitigate, through coordinated response, the impact of a successful attack.

• Lead the development of national, regional, and local resiliency/recovery capability from successful attacks on the CDC Marine Transportation System.

This notice is issued under the authority of 5 U.S.C. 552(a).

Dated: July 7, 2011.
K.C. Kiefer,
Captain, U.S. Coast Guard, Chief, Office of Port and Facility Activities (CG-544).

[FR Doc. 2011-17636 Filed 7-12-11; 8:45 am]

BILLING CODE 9110-04-P